DEPARTMENT OF AGRICULTURE

Grain Inspection, Packers and Stockyards Administration

Designation for the Amarillo, TX; Cairo, IL; Baton Rouge, LA; Raleigh, NC; and Belmond, IA Areas

AGENCY: Grain Inspection, Packers and Stockyards Administration, USDA.

ACTION: Notice.

SUMMARY: GIPSA is announcing the designation of Amarillo Grain Exchange, Inc. (Amarillo), Cairo Grain Inspection Agency, Inc. (Cairo), Louisiana Department of Agriculture and Forestry (Louisiana), North Carolina Department of Agriculture (North Carolina), and D.R. Schaal Agency, Inc. (Schaal) to provide official services under the United States Grain Standards Act (USGSA), as amended.

DATES: Effective Date: October 1, 2013.

ADDRESSES: Eric J. Jabs, Chief, USDA, GIPSA, FGIS, QACD, QADB, 10383 North Ambassador Drive, Kansas City, MO 64153.

FOR FURTHER INFORMATION CONTACT: Eric J. Jabs, 816-659-8408 or Eric.J.Jabs@usda.gov.

Read Applications: All applications and comments will be available for public inspection at the office above during regular business hours (7 CFR 1.27(c)).

SUPPLEMENTARY INFORMATION: In the December 28, 2012 Federal Register (77 FR 76453), GIPSA requested applications for designation to provide official services in the geographic areas presently serviced by Amarillo, Cairo, Louisiana, North Carolina, and Schaal. Applications were due by January 28, 2013. Amarillo, Cairo, Louisiana, North Carolina and Schaal were the sole applicants for designation to provide official services in these areas. As a result, GIPSA did not ask for additional comments.

GIPSA evaluated all available information regarding the designation criteria in section 79(f) of the USGSA (7 U.S.C. 79(f)) and determined that Amarillo, Cairo, Louisiana, North Carolina, and Schaal are qualified to provide official services in the geographic area specified in the Federal Register on December 28, 2012 and as corrected in the Federal Register on July 22, 2013, for the Cairo and Belmond geographic areas. This designation action to provide official services in these specified areas is effective October 1, 2013 and terminates on September 30, 2016.

Interested persons may obtain official services by contacting these agencies at the following telephone numbers:

Official agency | Headquarters location and telephone | Designation start | Designation end
Amarillo | Amarillo, TX (806) 372-8511 | 10/1/2013 | 9/30/2016
Cairo | Cairo, IL (618) 734-0689 | 10/1/2013 | 9/30/2016
Louisiana | Baton Rouge, LA (225) 922-1341 | 10/1/2013 | 9/30/2016
North Carolina | Raleigh, NC (919) 733-4491 | 10/1/2013 | 9/30/2016
D.R. Schaal | Belmond, IA (641) 444-3122 | 10/1/2013 | 9/30/2016

Section 79(f) of the USGSA authorizes the Secretary to designate a qualified applicant to provide official services in a specified area after determining that the applicant is better able than any other applicant to provide such official services (7 U.S.C. 79(f)).

Under section 79(g) of the USGSA, designations of official agencies are effective for no longer than three years unless terminated by the Secretary; however, designations may be renewed according to the criteria and procedures prescribed in section 79(f) of the USGSA.

Authority: 7 U.S.C. 71-87k.

Larry Mitchell,
Administrator, Grain Inspection, Packers and Stockyards Administration.

[FR Doc. 2013-18257 Filed 7-29-13; 8:45 am]

BILLING CODE 3410-KD-P